DEPARTMENT OF COMMERCE

Foreign-Trade Zones Board

[B-3-2025]

Foreign-Trade Zone (FTZ) 41; Authorization of Production Activity; Zebra Technologies Corporation; (Computer Printing Products); Kenosha, Wisconsin

On January 13, 2025, Zebra Technologies Corporation submitted a notification of proposed production activity to the FTZ Board for its facility within FTZ 41, in Kenosha, Wisconsin.

The notification was processed in accordance with the regulations of the FTZ Board (15 CFR part 400), including notice in the Federal Register inviting public comment (90 FR 8007-8008, January 23, 2025). On June 20, 2025, the applicant was notified of the FTZ Board's decision that no further review of the activity is warranted at this time. The production activity described in the notification was authorized, subject to the FTZ Act and the FTZ Board's regulations, including section 400.14.

Dated: June 23, 2025.
Elizabeth Whiteman,
Executive Secretary.

[FR Doc. 2025-11698 Filed 6-24-25; 8:45 am]

BILLING CODE 3510-DS-P